DEPARTMENT OF TRANSPORTATION

Federal Highway Administration

[WisDOT Project 1206-07-03]

Notice of Intent to Prepare a Supplemental Draft Environmental Impact Statement; USH 18 & 151, CTH PD to USH 12 & 14, Madison Urban Area; Dane County, WI

AGENCY: Federal Highway Administration (FHWA), DOT.

ACTION: Notice of Intent to Prepare a Supplemental Draft Environmental Impact Statement.

SUMMARY: The FHWA is issuing this notice to advise the public that a Supplemental Draft Environmental Impact Statement (SDEIS) is being prepared for transportation improvements to the USH 18 & 151 (Verona Rd) corridor from CTH PD to USH 12 & 14 in the Madison Urban Area, Dane County, Wisconsin, WisDOT Project 1206-07-03. The SDEIS is being prepared in conformance with 40 CFR 1500 and FHWA regulations.

SUPPLEMENTARY INFORMATION: The Federal Highway Administration (FHWA), in cooperation with the Wisconsin Department of Transportation (WisDOT), is preparing a Supplemental Draft Environmental Impact Statement (SDEIS) on improvements needed to provide capacity for existing and projected traffic demand, to reduce high crash rates, and to provide better connectivity between land areas adjacent to the highways on approximately 2 miles of existing USH 18 & 151 (Verona Road) from CTH PD (McKee Rd) to USH 12 & 14 (Madison South Beltline Hwy). The previous DEIS corridor included three focus areas: (1) The West Madison Beltline Hwy (USH 12 & 14 from USH 14 in Middleton to Todd Dr in Madison), (2) Interchange upgrades and new grade separations on the West Madison Beltline, and (3) the same section of USH 18 & 151 (Verona Rd) which will be reevaluated by the proposed SDEIS. The proposed SDEIS will evaluate No Build, Interim Improvements, and Freeway Conversion alternatives for this section of USH 18 & 151. Possible improvements for the other two focus areas may be re-evaluated as separate independent environmental studies at some future date.

Participation by the public, local officials, state and federal regulatory agencies, American Indian Tribes and other interested parties are being solicited through public information meetings, agency coordination meetings, and public hearings. Opportunities to be participating and/or cooperating agencies and to provide input on the project's coordination plan and impact assessment methodology are also being provided under Section 6002 of the Safe, Accountable, Flexible, Efficient Transportation Equity Act: A Legacy for Users (SAFETEA-LU).

This study shall comply with Title VI of the Civil Rights Act and of Executive Order 12898, which prohibits discrimination on the basis of race, color, age, sex, or country of national origin in the implementation of this action. To ensure that the full range of issues related to this proposed action is addressed, and all substantive issues are identified, comments and suggestions are invited from all interested parties. Comments or questions concerning this proposed action should be directed to FHWA or WisDOT at the addresses provided below (Catalog of Federal Domestic Assistance Program Number 20.205, Highway Planning and Construction.)

FOR FURTHER INFORMATION CONTACT: Johnny Gerbitz, Field Operations Engineer, Federal Highway Administration, 525 Junction Road, Suite 8000, Madison, WI 53717-2157; Telephone: (608) 829-7500, Ext “O”. You may also contact Eugene Johnson, Director, Bureau of Equity and Environmental Services, Wisconsin Department of Transportation, P.O. Box 7916, Madison, Wisconsin, 53707-7916: Telephone: (608) 267-9527.

An electronic copy of this document may be downloaded from the Government Printing Office's Electronic Bulletin Board Service at (202) 512-1661 by using a computer modem and suitable communications software. Internet users may reach the Office of Federal Register's home page at: http://www.archives.gov/ and the Government Printing Office's database at: http://www.gpoaccess.gov/nara/index.html.

Authority: 23 U.S.C. 315; 49 CFR 1.48

Issued on: November 17, 2009.
Johnny M Gerbitz,
Field Operations Engineer, Federal Highway Administration, Madison, Wisconsin.

[FR Doc. E9-28452 Filed 11-27-09; 8:45 am]

BILLING CODE P